DEPARTMENT OF TRANSPORTATION

Federal Motor Carrier Safety Administration

[Docket No. FMCSA-2010-0354]

Qualification of Drivers; Exemption Applications; Vision

Correction

In notice document C1 2011-241 beginning on page 2190 in the issue of Wednesday, January 12, 2011, make the following correction:

On page 2190, in the third column, in the DATES section, in the third line, “January 12, 2012” should read “January 14, 2013”.

[FR Doc. C1-2011-241 Filed 1-24-11; 8:45 am]

BILLING CODE 1505-01-D